DEPARTMENT OF THE INTERIOR

National Park Service

Fire Management Plan, Final Environmental Impact Statement, Chiricahua National Monument, AZ

AGENCY: National Park Service, Department of the Interior.

ACTION: Notice of Availability of a Record of Decision on the Final Environmental Impact Statement for the Fire Management Plan, Chiricahua National Monument.

SUMMARY: Pursuant to § 102(2)(C) of the National Environmental Policy Act of 1969, 83 Stat. 852, 853, codified as amended at 42 U.S.C. 4332(2)(C), the National Park Service announces the availability of the Record of Decision for the Fire Management Plan, Chiricahua National Monument, Arizona. On August 2, 2005 the Director, Intermountain Region approved the Record of Decision for the project. As soon as practicable, the National Park Service will begin to implement the Preferred Alternative contained in the FEIS issued on July 1, 2005. The following course of action will occur under the preferred alternative, the Watershed Alternative. This course of action and 2 alternatives were analyzed in the Draft and Final Environmental Impact Statements. The full range of foreseeable environmental consequences was assessed, and appropriate mitigating measures were identified.

The Record of Decision includes a statement of the decision made, synopses of other alternatives considered, the basis for the decision, a description of the environmentally preferable alternative, a finding on impairment of park resources and values, a listing of measures to minimize environmental harm, and an overview of public involvement in the decision-making process.

FOR FURTHER INFORMATION CONTACT: Carrie Dennett, 13063 E. Bonita Canyon Road, Willcox, AZ 85643, (520) 824-3560 Carrie_Dennett@nps.gov.

SUPPLEMENTARY INFORMATION: Copies of the Record of Decision may be obtained from the contact listed above or online at http://www.nps.gov/CHIR.

Dated: August 2, 2005.
Kate Cannon,
Acting Deputy, Intermountain Region, National Park Service.

[FR Doc. 05-17852 Filed 9-8-05; 8:45 am]

BILLING CODE 4312-07-P